DEPARTMENT OF COMMERCE

Submission for OMB Review; Comment Request

The Department of Commerce has submitted to the Office of Management and Budget (OMB) for clearance the following proposal for collection of information under the provisions of the Paperwork Reduction Act (44 U.S.C. Chapter 35).

Agency: Institute of Standards and Technology (NIST).

Title: Survey of Advanced Technology Program Joint Venture Participants.

Form Number: None.

OMB Approval Number: None.

Type of Request: Regular.

Number of Respondents: 547.

Average Hours Per Response: 30 minutes for the Company survey; 15 minutes for the Nonprofit Organization survey; and 10 minutes for the Inactive Company survey.

Needs and Uses: This information collection is for program evaluation of the Advanced Technology Program (ATP). Research and development (R&D) collaborations and strategic alliances across companies and organizations have become increasingly important in industry. A key mission of the ATP as defined by statute is to support R&D joint ventures. This information collection and analysis will further ATP's mission by providing better understanding of R&D collaborations in general, and ATP Joint Ventures in particular.

Affected Public: Business or other for-profit organizations, not-for-profit institutions.

Frequency: One-time only.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at DHynek@doc.gov).

Written comments and recommendations for this proposed information collection should be sent within 30 days of publication of this notice to Jacqueline Zeiher, OMB Desk Officer, Room 10202, New Executive Office Building, Washington, DC 20503.

Dated: January 17, 2003.
Gwellnar Banks,
Management Analyst, Office of the Chief Information Officer.

[FR Doc. 03-1586 Filed 1-23-03; 8:45 am]

BILLING CODE 3510-13-P